DEPARTMENT OF COMMERCE

International Trade Administration

[A-588-869]

Diffusion-Annealed, Nickel-Plated, Flat-Rolled Steel Products From Japan: Final Results of Antidumping Duty Administrative Review; 2016-2017

AGENCY: Enforcement and Compliance, International Trade Administration, Department of Commerce.

SUMMARY: The Department of Commerce (Commerce) find that diffusion-annealed, nickel-plated, flat-rolled steel products from Japan have been sold at less than normal value during the period of review (POR) May 1, 2016, through April 30, 2017.

DATES: Applicable December 14, 2018.

FOR FURTHER INFORMATION CONTACT: Edythe Artman, AD/CVD Operations, Office VI, Enforcement and Compliance, International Trade Administration, U.S. Department of Commerce, 1401 Constitution Avenue NW, Washington, DC 20230; telephone: (202) 482-3931.

SUPPLEMENTARY INFORMATION:

Background

On June 11, 2018, Commerce published the Preliminary Results.¹ A summary of the events that occurred since Commerce published these results, as well as a full discussion of the issues raised by parties for these final results, may be found in the Issues and Decision Memorandum, which is hereby adopted by this notice.²

¹ See Diffusion-Annealed, Nickel-Plated Flat-Rolled Steel Products from Japan: Preliminary Results of Antidumping Duty Administrative Review; 2016-2017, 83 FR 26955 (June 11, 2018) (Preliminary Results) and accompanying Preliminary Decision Memorandum.

² See Memorandum, “Issues and Decision Memorandum for the Final Results of the Administrative Review of the Antidumping Duty Order on Diffusion-Annealed, Nickel-Plated Flat-Rolled Steel Products from Japan; 2016-2017,” dated concurrently with and hereby adopted by this notice (Issues and Decision Memorandum).

Scope of the Order

The diffusion-annealed, nickel-plated flat-rolled steel products included in this order are flat-rolled, cold-reduced steel products, regardless of chemistry; whether or not in coils; either plated or coated with nickel or nickel-based alloys and subsequently annealed (i.e., “diffusion-annealed”); whether or not painted, varnished or coated with plastics or other metallic or nonmetallic substances; and less than or equal to 2.0 mm in nominal thickness. For purposes of this order, “nickel-based alloys” include all nickel alloys with other metals in which nickel accounts for at least 80 percent of the alloy by volume.

Imports of merchandise included in the scope of this order are classified primarily under Harmonized Tariff Schedule of the United States (HTSUS) subheadings 7212.50.0000 and 7210.90.6000, but may also be classified under HTSUS subheadings 7210.70.6090, 7212.40.1000, 7212.40.5000, 7219.90.0020, 7219.90.0025, 7219.90.0060, 7219.90.0080, 7220.90.0010, 7220.90.0015, 7225.99.0090, or 7226.99.0180. Although the HTSUS subheadings are provided for convenience and customs purposes, the written description of the scope of this order is dispositive.

Analysis of Comments Received

All issues raised in the case and rebuttal briefs by parties to this administrative review are addressed in the Issues and Decision Memorandum. A list of the issues raised by parties is attached to this notice as an Appendix. The Issues and Decision Memorandum is a public document and is on file electronically via Enforcement and Compliance's Antidumping and Countervailing Duty Centralized Electronic Service System (ACCESS). ACCESS is available to registered users at https://access.trade.gov and it is available to all parties in the Central Records Unit, Room B8024 of the main Department of Commerce building. In addition, a complete version of the Issues and Decision Memorandum can be accessed directly at http://enforcement.trade.gov/frn/index.html. The signed and electronic versions of the Issues and Decision Memorandum are identical in content.

With regard to NSSMC, we received no comments or submissions since the Preliminary Results. Therefore, we continue to find that, in accordance with sections 776(a) and (b) of the Act, application of facts otherwise available, with an adverse inference, is warranted.³

³ For a full discussion of Commerce's determination to apply adverse fact available pursuant to sections 776(a) and (b) of the Act, see Preliminary Results at 26956 and accompanying Preliminary Decision Memorandum at 3-5.

Changes Since the Preliminary Results

Based on our review of the record and comments received from interested parties, we made certain changes to the margin calculations for Toyo Kohan. Commerce has relied on partial facts available under section 776(a) and (b) of the Act. In addition, Commerce finds that Toyo Kohan failed to cooperate to the best of its ability and thus it is applying adverse inferences in selecting from facts available, pursuant to section 776(b). For a discussion of these changes, see Issues and Decision Memorandum.

Final Results of the Review

The final dumping margins are as follows for the period May 1, 2016, through April 30, 2017:

Producer or exporter | Dumping margin (percent)
Toyo Kohan Co., Ltd | 4.57
Nippon Steel & Sumitomo Metal Corporation | 77.70

Disclosure

We will disclose the calculations performed to parties in this proceeding within five days of the date of publication of this notice, in accordance with 19 CFR 351.224(b).

Assessment Rates

Commerce shall determine, and CBP shall assess, antidumping duties on all appropriate entries covered by this review pursuant to section 751(a)(2)(C) of the Act and 19 CFR 351.212(b)(1).

For Toyo Kohan, because its weighted-average dumping margin is not zero or de minimis (i.e., less than 0.5 percent), Commerce has calculated an importer-specific ad valorem duty assessment rate. We calculated importer-specific ad valorem antidumping duty rates by aggregating the total amount of dumping calculated for the importer's examined sales and dividing each of these amounts by the total entered value associated with those sales. We will instruct CBP to assess antidumping duties on all appropriate entries covered by this review where an importer-specific assessment is above de minimis. Pursuant to 19 CFR 351.106(c)(2), we will instruct CBP to liquidate without regard to antidumping duties any entries for which the importer-specific assessment rate is zero or de minimis.

For NSSMC, we will base the assessment rate for the corresponding entries on the margin listed above.

Cash Deposit Requirements

The following cash deposit requirements will be effective upon publication of this notice for all shipments of subject merchandise entered, or withdrawn from warehouse, for consumption on or after the publication of these final results, as provided by section 751(a)(2) of the Act: (1) The cash deposit rate for Toyo Kohan and NSSMC will be the rate established in the final results of this administrative review; (2) for merchandise exported by manufacturers or exporters not covered in this administrative review but covered in a prior segment of the proceeding, the cash deposit rate will continue to be the company specific rate published for the most recently completed segment of this proceeding; (3) if the exporter is not a firm covered in this review, a prior review, or the original investigation, but the manufacturer is, the cash deposit rate will be the rate established for the most recently completed segment of this proceeding for the manufacturer of the subject merchandise; and (4) the cash deposit rate for all other manufacturers or exporters will continue to be 45.42 percent, the all-others rate established in the antidumping investigation.⁴ These cash deposit requirements, when imposed, shall remain in effect until further notice.

⁴ See Diffusion-Annealed, Nickel-Plated Flat-Rolled Steel Products from Japan: Antidumping Duty Order, 79 FR 30816, 30817 (May 29, 2014) (Order).

Notification to Importers

This notice also serves as a final reminder to importers of their responsibility under 19 CFR 351.402(f)(2) to file a certificate regarding the reimbursement of antidumping duties prior to liquidation of the relevant entries during the period of review. Failure to comply with this requirement could result in Commerce's presumption that reimbursement of antidumping duties did occur and the subsequent assessment of doubled antidumping duties.

Administrative Protective Order

This notice also serves as a reminder to parties subject to administrative protective orders (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

We are issuing and publishing this notice in accordance with sections 751(a)(1) and 777(i)(1) of the Act and 19 CFR 351.213(h).

Dated: December 7, 2018.
Christian Marsh,
Deputy Assistant Secretary for Enforcement and Compliance.

Appendix

List of Topics Discussed in the Issues and Decision Memorandum

I. Summary

II. List of Issues

III. Background

IV. Scope of the Order

V. Application of Partial Facts Available and Use of Adverse Inference

VI. Discussion of the Issues

Comment 1: Failure to Report Actual Production Dates

Comment 2 Failure to Report Actual Home Market Payment Dates

Comment 3: Reconciliation of U.S. Sales at Verification

Comment 4: Rejection of Toyo Kohan's Factual Information to Rebut the Verification Report

Comment 5: Use of Revised Data in the Final Results of Review

Comment 6: Failure to Report End-User Customer Codes

VII. Recommendation

[FR Doc. 2018-27120 Filed 12-13-18; 8:45 am]

BILLING CODE 3510-DS-P